DEPARTMENT OF AGRICULTURE

Submission for OMB Review; Comment Request

March 5, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR Part 215—Special Milk Program for Children.

OMB Control Number: 0584-0005.

Summary of Collection: Section 3 of the Child Nutrition Act (CNA) of 1966 (Pub. L. 89-642, as amended; 42 U.S.C. 1772) authorizes the Special Milk Program (SMP) for Children. It provides for appropriation of such sums as may be necessary to enable the Secretary of Agriculture under such rules and regulations as the Secretary may deem in the public interest, to encourage consumption of fluid milk by children in the United States in (1) nonprofit schools of high school grades and under, and (2) nonprofit nursery schools, child care centers, settlement houses, summer camps, and similar nonprofit institutions devoted to the care and training of children, which do not participate in a food service program authorized under the CAN or the National School Lunch Act.

Need and Use of the Information: The Food and Nutrition Service (FNS) will collect information to compute the amount of Federal SMP funds due the SA under the performance-funding formula; analyze and evaluate the results of program operation within each state and nationwide; respond to data requests from the Congress, OMB, and advocacy groups and the general public; develop budget projections of the amount of Federal funds needed to pay SMP program benefits; and regulate the flow of Federal funds to SA. Without this information FNS would not be able to evaluate program operations.

Description of Respondents: State, Local, and Tribal Government; Business or other for-profit; Not-for-profit institutions.

Number of Respondents: 11,430.

Frequency of Responses: Recordkeeping; Reporting: Monthly.

Total Burden Hours: 566,428.

Food and Nutrition Service

Title: Civil Rights Title VI—Collection Reports—FNS-191 and FNS-101.

OMB Control Number: 0584-0025.

Summary of Collection: Title VI of the Civil Rights Act of 1964 prohibits discrimination on the basis of race, color, and national origin in programs receiving Federal financial assistance. The Department of Justice regulations, cited at Title 28 of the Code of Federal Regulations (CFR), Section 42.106(b), require all Federal Departments to provide for the collection of racial/ethnic data and information from applicants for and recipients of Federal assistance sufficient to permit effective enforcement of Title VI. In order to comply with the Civil Rights Act, Department of Justice regulations and the Department's nondiscrimination policy and regulations (7 CFR Part 15), the Department's Food and Nutrition Service (FNS) requires State agencies to submit data on the racial/ethnic categories of persons receiving benefits from FNS food assistance programs. FNS will collect information using forms FNS 191 and FNS 101.

Need and Use of the Information: FNS will collect the names, addresses, telephone numbers to compile a local agency directory which serves as the primary source of data on number and location for local agencies and number of sites operating Commodity Supplemental Food Program (CSFP). FNS will also collect information on the number of CFSP individuals (women, infant, children, and elderly) in each racial/ethnic category for one month of the year. The information will be used in the Department's annual USDA Equal Opportunity Report. If the information is not collected FNS could not track racial/ethnic data for program evaluation.

Description of Respondents: State, Local or Tribal Government.

Number of Respondents: 2,863.

Frequency of Responses: Reporting: Annually.

Total Burden Hours: 5,726.

Food and Nutrition Service

Title: National Survey of WIC Participants II.

OMB Control Number: 0584-0484.

Summary of Collection: The Improper Payments Information Act (IPIA) of 2002 (Pub. L. 107-300) requires the Food and Nutrition Service (FNS), USDA, to provide estimates of erroneous payments in the Special Supplemental Nutrition Program for Women, Infants, and Children (WIC), and to identify and report corrective actions the agency is taking to reduce them. These measures are necessary in order to enhance the accuracy and integrity of Federal payments in the WIC Program.

Need and Use of the Information: FNS will use the information to identify the amount and source of error and to develop corrective measures to be taken to reduce the amount of error. If the information is not collected, no assessment of the amount and type of errors can be made nor can corrective actions be developed and implemented.

Description of Respondents: State, Local, or Tribal Government; Individuals or households.

Number of Respondents: 5,093.

Frequency of Responses: Report: Other (One time).

Total Burden Hours: 3,361.

Ruth Brown,
Departmental Information Collection Clearance Officer.

[FR Doc. E9-5056 Filed 3-9-09; 8:45 am]

BILLING CODE 3410-30-P